DEPARTMENT OF LABOR

Employment and Training Administration

Solicitation for Grant Applications (SGA) Grants for Small Faith-Based and Community-Based Non-Profit Organizations; Amendment

AGENCY: Employment and Training Administration (ETA), Labor.

ACTION: Notice; amendment.

SUMMARY: The Employment and Training Administration published a document in the Federal Register of April 4, 2003, concerning the availability of grant funds for small faith-based and community-based non-profit organizations. The document is being amended.

EFFECTIVE DATES: April 23, 2003.

FOR FURTHER INFORMATION CONTACT: Linda Forman, Grants Management Specialist, Division of Federal Assistance, Fax (202) 693-2879.

Amendment to the Federal Register Notice dated: 68 FR, 16554; April 4, 2003: Part V. Eligible Applicants (Note: Small Faith-based and Community-based organizations that received direct grants from the Employment and Training Administration in 2002 are not eligible to apply for a grant under this SGA.) This prohibition, however, does not apply to sub-grantees which received funding from Intermediary grantees in 2002.

Signed at Washington, DC, this 18th day of April, 2003.
James W. Stockton,
Grant Officer.

[FR Doc. 03-10037 Filed 4-22-03; 8:45 am]

BILLING CODE 4510-30-M